DEPARTMENT OF AGRICULTURE

Animal and Plant Health Inspection Service

[Docket No. APHIS-2019-0017]

Notice of Availability of an Environmental Assessment for the Release of Cheilosia urbana for Biological Control of Invasive Hawkweeds

AGENCY: Animal and Plant Health Inspection Service, USDA.

ACTION: Notice of availability.

SUMMARY: We are advising the public that the Animal and Plant Health Inspection Service has prepared an environmental assessment relative to permitting the release of the hoverfly Cheilosia urbana for the biological control of invasive hawkweeds (Pilosella species) within the contiguous United States. Based on the environmental assessment and other relevant data, we have reached a preliminary determination that the release of these control agents will not have a significant impact on the quality of the human environment. We are making the environmental assessment available to the public for review and comment.

DATES: We will consider all comments that we receive on or before June 27, 2019.

ADDRESSES: You may submit comments by either of the following methods:

• Federal eRulemaking Portal: Go to http://www.regulations.gov/#!docketDetail;D=APHIS-2019-0017.

• Postal Mail/Commercial Delivery: Send your comment to Docket No. APHIS-2019-0017, Regulatory Analysis and Development, PPD, APHIS, Station 3A-03.8, 4700 River Road Unit 118, Riverdale, MD 20737-1238.

Supporting documents and any comments we receive on this docket may be viewed at http://www.regulations.gov/#!docketDetail;D=APHIS-2019-0017 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2237; email: Colin.Stewart@usda.gov.

SUPPLEMENTARY INFORMATION: Hawkweeds are invasive weeds of moist pastures, forest meadows, and mountain rangelands with a moderate amount of moisture. Habitats most vulnerable to invasion include human-disturbed sites, such as roadsides and hayfields, and abandoned farmland. The following hawkweeds are considered noxious in many western States and are currently targets for biological control: Pilosella flagellaris (whiplash hawkweed), Pilosella floribunda (king devil hawkweed), Pilosella glomerata (queen devil or yellow devil hawkweed), Pilosella officinarum (mouse-ear hawkweed), and Pilosella piloselloides (tall hawkweed).

Cheilosia urbana is a very common and widespread hoverfly in Europe. The fly's potential range in North America is expected to match much of the distributions of the targeted Pilosella (hawkweed) species that occur in the northwestern United States and northeastern United States, including southwestern and southeastern Canada. Permitting the release of Cheilosia urbana is necessary to reduce the severity of invasive hawkweed infestations and economic losses since other alternatives are not effective or feasible.

The Animal and Plant Health Inspection Service's (APHIS') review and analysis of the potential environmental impacts associated with the proposed release are documented in detail in an environmental assessment (EA) entitled “Field Release of the Hoverfly Cheilosia urbana (Diptera: Syrphidae) for Biological Control of Invasive Pilosella species hawkweeds (Asteraceae) in the contiguous United States” (July 2018). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 21st day of May 2019.
Kevin Shea,
Administrator, Animal and Plant Health Inspection Service.

[FR Doc. 2019-11027 Filed 5-24-19; 8:45 am]

BILLING CODE 3410-34-P